DEPARTMENT OF STATE

[Public Notice: 6839]

30-Day Notice of Proposed Information Collection: DS-2028, Overseas Schools Grant Status Report OMB 1405-0033

ACTION: Notice of request for public comment and submission to OMB of proposed collection of information.

SUMMARY: The Department of State has submitted the following information collection request to the Office of Management and Budget (OMB) for approval in accordance with the Paperwork Reduction Act of 1995.

• Title of Information Collection: Overseas Schools Grant Status Report.

• OMB Control Number: OMB 1405-0033.

• Type of Request: Extension.

• Originating Office: Office of Overseas Schools, A/OPR/OS.

• Form Number: DS-2028.

• Respondents: Overseas schools grantees.

• Estimated Number of Respondents: 196.

• Estimated Number of Responses: 196.

• Average Hours per Response: 15 minutes.

• Total Estimated Burden: 49.

• Frequency: Annually.

• Obligation to Respond: Required to obtain or retain a benefit.

DATES: Submit comments to the Office of Management and Budget (OMB) for up to 30 days from December 10, 2009.

ADDRESSES: Keith Miller, Department of State, Office of Overseas Schools, A/OPR/OS, Room H328, SA-1, Washington, DC 20522-0132, who is reachable on 202-261-8200. You may submit comments by any of the following methods:

• E-mail: millerkd2@state.gov.

• Mail (paper, disk, or CD-ROM submissions): Office of Overseas Schools, U.S. Department of State, 2201 C St., NW., Washington, DC 20522-0132.

• Fax: 202-261-8224.

• Hand Delivery or Courier: 2401 E St., NW., Room H328, Washington, DC 20037.

You must include the DS form number (if applicable), information collection title, and OMB control number in any correspondence.

FOR FURTHER INFORMATION CONTACT: Direct requests for additional information regarding the collection listed in this notice, including requests for copies of the proposed information collection and supporting documents, to Keith Miller, Department of State, Office of Overseas Schools, A/OPR/OS, Room H328, SA-1, Washington, DC 20522-0132, who is reachable on 202-261-8200 or at millerkd2@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection:

The Office of Overseas Schools of the Department of State (A/OPR/OS) is responsible for determining that adequate educational opportunities exist at Foreign Service Posts for dependents of U.S. Government personnel stationed abroad, and for assisting American-sponsored overseas schools to demonstrate U.S. educational philosophy and practice. The information gathered provides the technical and professional staff of A/OPR/OS the means by which obligations, expenditures and reimbursements of the grant funds are monitored to ensure the grantee complies with the terms of the grant.

Methodology: Information is collected via electronic and paper submission.

Additional Information:

Dated: November 25, 2009.
Peggy Philbin,
Executive Director, Bureau of Administration, Department of State.

[FR Doc. E9-29450 Filed 12-9-09; 8:45 am]

BILLING CODE 4710-24-P